DEPARTMENT OF AGRICULTURE

Rural Utilities Service

[Docket No. RUS-20-ELECTRIC-0020]

Notice of Request for Revision of a Currently Approved Information Collection

AGENCY: Rural Utilities Service, USDA.

ACTION: Notice; comment requested.

SUMMARY: In accordance with the Paperwork Reduction Act of 1995, this notice announces the intention of the above-named agency to request Office of Management and Budget's (OMB) approval for a revision of a currently approved information collection in support of RUS Electric Engineering Architectural Services, and Design Policies and Procedures.

DATES: Comments on this notice must be received by July 13, 2020.

FOR FURTHER INFORMATION CONTACT: Arlette Mussington, Rural Development Innovation Center—Regulations Management Division, USDA, 1400 Independence Avenue SW, Room 4227, South Building, Washington, DC 20250-1522. Telephone: (202) 720-2825. Email arlette.mussington@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an existing information collection that the Agency is submitting to OMB for extension.

Comments

Comments are invited on: (a) Whether this collection of information is necessary for the proper performance of the functions of the Agency, including whether the information will have practical utility; (b) The accuracy of the Agency's estimate of the burden of the collection of information including the validity of the methodology and assumptions used; (c) Ways to enhance the quality, utility, and clarity of the information to be collected; and (d) Ways to minimize the burden of the collection of information on those who respond, including through the use of appropriate automated, electronic, mechanical or other technological collection techniques, or other forms of information technology.

Comments may be sent by the Federal eRulemaking Portal: Go to http://www.regulations.gov and, in the lower “Search Regulations and Federal Actions” box, select “RUS” from the agency drop-down menu, then click on “Submit.” In the Docket ID column, select RUS-20-ELECTRIC-0020 to submit or view public comments and to view supporting and related materials available electronically. Information on using Regulations.gov, including instructions for accessing documents, submitting comments, and viewing the docket after the close of the comment period, is available through the site's “User Tips” link.

Title: 7 CFR part 1724, and Part 1738, Electric Engineering, Architectural Services and Design Policies and Procedures.

OMB Control Number: 0572-0118.

Type of Request: Revision of a currently approved collection.

Abstract: The Agency requires borrowers to use standard contract forms under certain circumstances. The use of standard forms helps assure the Agency that appropriate standards and specifications are maintained, that the Agency's loan security is not adversely affected, and that loan and loan guarantee funds are used effectively and for the intended purpose. Standardization of forms by the Agency results in substantial savings to Borrowers. If standard forms were not used, borrowers would be required to prepare documents and the government would require extensively and costly review by both the Agency and the Office of General Counsel.

RUS Form 220, “Architectural Services Contract.” may be used per 7 CFR 1724.21(a) and RUS Form 236, “Engineering Service Contract Electric System Design and Construction.” may be used per 7 CFR 1724.31(b). These two forms were previously required to be used but are no longer required to be used according to a Federal Register notice published July 9, 2019. These two forms have been removed from the previous version of this information collection package. The contract forms included in this collection of information are RUS Form 211, “Engineering Service Contract for the Design and Construction of a Generating Plant”.

Estimate of Burden: Public reporting burden for this collection of information is estimated to average 2 hours per response.

Respondents: Businesses, not-for-profit institutions and others.

Estimated Number of Respondents: 4.

Total Annual Responses: 4.

Estimated Number of Responses per Respondent: 1.

Estimated Total Annual Burden on Respondents: 8 hours.

Copies of this information collection can be obtained from Arlette Mussington, Innovation Center—Regulations Management Division, at (202) 720-2825. Email: arlette.mussington@usda.gov.

All responses to this notice will be summarized and included in the request for OMB approval. All comments will also become a matter of public record.

Chad Rupe,
Administrator, Rural Utilities Service.

[FR Doc. 2020-10213 Filed 5-12-20; 8:45 am]

BILLING CODE 3410-XV-P